DEPARTMENT OF AGRICULTURE

Forest Service

Revision of the Land Management Plan for the National Forests and Grasslands in Texas

AGENCY: Forest Service, USDA.

ACTION: Notice of initiating the assessment phase of the land management plan revision for the National Forests and Grasslands in Texas.

SUMMARY: The National Forests and Grasslands in Texas, located in central and east Texas, is initiating the first phase of the forest planning process pursuant to the 2012 National Forest System land management planning rule. This process will result in a revised land management plan (Forest Plan) which describes the strategic direction for management of forest and grassland resources on the National Forests and Grasslands in Texas for the next ten to fifteen years. The planning process encompasses three stages: Assessment, plan revision, and monitoring. The first phase of the process, the assessment phase, is beginning on the National Forests and Grasslands in Texas and involves assessing ecological, social, and economic conditions of the planning area, which is documented in an assessment report.

The Forest is inviting the public to contribute to the development of the assessment. The Forest will be hosting public forums where the public will be invited to share information relevant to the assessment, including existing information, current trends, and local knowledge.

DATES: Public meetings associated with the development of the assessment will be announced on the Forest's Web site at www.fs.usda.gov/goto/texas/planrevision and sent to individuals and organizations on the Forest's mailing list. A draft of the assessment report for the revision of National Forests and Grasslands land management plan is anticipated to be available by March 2018. Following completion of the assessment, the Forest will initiate procedures pursuant to the National Environmental Policy Act (NEPA) to prepare and evaluate a revised land management plan.

ADDRESSES: Written comments or questions concerning this notice should be addressed to National Forests and Grasslands in Texas, Attn: Forest Plan, 2221 N. Raguet St., Lufkin, Texas 75904. Comments or questions may also be sent via email to TexasPlanRev@fs.fed.us. All correspondence, including names and addresses when provided, are placed in the record and are available for public inspection and copying.

FOR FURTHER INFORMATION CONTACT: Theresa Mathis, Forest Planner, National Forests and Grasslands in Texas at 936-639-8586. More information on the plan revision process can be found on the Forest's Web site at www.fs.usda.gov/goto/texas/planrevision. If you have questions or would like to sign up to be on the Forest's mailing list, send an email to TexasPlanRev@fs.fed.us or call the Forest Plan Revision number 936-639-8586. Individuals who use telecommunication devices for the deaf (TDD) may call the Federal Information Relay Service (FIRS) at 1-800-877-8339 between 8:00 a.m. and 8:00 p.m. (Eastern time), Monday through Friday.

SUPPLEMENTARY INFORMATION: The National Forest Management Act (NFMA) of 1976 requires that every National Forest System (NFS) unit develop a land management plan. On April 9, 2012, the Forest Service finalized its land management planning rule (2012 Planning Rule, 36 CFR 219), which describes requirements for the planning process and the content of land management plans. Forest plans describe the strategic direction for management of forest and grassland resources for ten to fifteen years, and are adaptive and amendable as conditions change over time. Pursuant to the 2012 Forest Planning Rule (36 CFR 219), the planning process encompasses three-stages: Assessment, plan revision, and monitoring. The first stage of the planning process involves assessing social, economic, and ecological conditions of the planning area, which is documented in an assessment report. This notice announces the start of the initial stage of the planning process, which is the development of the assessment report.

The second stage, formal plan revision, involves the development of the Forest Plan in conjunction with the preparation of an Environmental Impact Statement under the NEPA. Once the plan revision is completed, it will be subject to the objection procedures of 36 CFR 219, subpart B, before it can be approved. The third stage of the planning process is the monitoring and evaluation of the revised plan, which is ongoing over the life of the revised plan.

The assessment is a rapid evaluation of the existing information about the relevant ecological, economic, cultural and social conditions, trends, and sustainability and their relationship to land management plans within the context of the broader landscape. This information builds a common understanding prior to entering formal plan revision. The development of the assessment will include public engagement.

With this notice, the National Forests and Grasslands in Texas invite other governments, non-governmental parties, and the public to contribute to the development of the assessment. The intent of public engagement during development of the assessment is to identify as much relevant information as possible to inform the upcoming plan revision process. We encourage contributors to share material about existing conditions, trends, and perceptions of social, economic, and ecological systems relevant to the planning process. The assessment also supports the development of relationships with key stakeholders that will be used throughout the plan revision process.

As public meetings, other opportunities for public engagement, and public review and comment opportunities are identified to assist with the development of the forest plan revision, public announcements will be made, notifications will be posted on the Forest's Web site at www.fs.usda.gov/goto/texas/planrevision and information will be sent out to the Forest's mailing list. If anyone is interested in being on the Forest's mailing list to receive these notifications, please contact Theresa Mathis, Forest Planner, at the address or phone number identified above, or by sending an email to TexasPlanRev@fs.fed.us.

Responsible Official

The responsible official for the revision of the land management plan for the National Forests and Grasslands in Texas is William E. Taylor, Jr., Forest Supervisor, National Forests and Grasslands in Texas, 2221 N. Raguet St., Lufkin, Texas 75904.

Dated: March 15, 2017.
Jeanne M. Higgins,
Associate Deputy Chief, National Forest System.

[FR Doc. 2017-07407 Filed 4-11-17; 8:45 am]

BILLING CODE 3411-15-P